DEPARTMENT OF THE INTERIOR

Bureau of Land Management

[LLCON03000-L12200000-PA0000]

Notice of Final Supplementary Rules for Public Lands in Colorado: North Fruita Desert Management Area

AGENCY: Bureau of Land Management, Interior.

ACTION: Notice of final supplementary rules.

SUMMARY: The Bureau of Land Management (BLM) Grand Junction Field Office (GJFO) is implementing supplementary rules to regulate conduct on public lands within the North Fruita Desert Management Area (NFDMA). These supplementary rules are needed to implement decisions found in the 2004 North Fruita Desert Management Plan (NFDMP) to protect public lands, resources, and public health, and provide for public safety.

DATES: Effective Date: These rules are effective December 12, 2011.

ADDRESSES: You may send inquiries to the Bureau of Land Management, 2815 H Road, Grand Junction, Colorado 81506, or email comments to gjfo_webmail@blm.gov, Attn: “North Fruita.”

FOR FURTHER INFORMATION CONTACT: Bryce Stewart, BLM Ranger, Bureau of Land Management, Grand Junction Field Office, at the address listed above or by telephone at 970-244-3070.

SUPPLEMENTARY INFORMATION:

I. Authority

II. Background

III. Discussion of the Public Comments

IV. Procedural Matters

V. Final Supplementary Rules

I. Authority

43 U.S.C. 1740, 43 U.S.C. 315a, and 43 CFR 8365.1-6.

II. Background

Recreation resource management decisions for the GJFO were detailed in the Grand Junction Resource Area (GJRA) Resource Management Plan (RMP) in 1987. The Grand Valley, including the North Fruita Desert, was designated as an Intensive Recreation Management Area (IRMA) in the RMP. The RMP recommended additional planning for the IRMA due to its distinguishing characteristics and significant opportunities for recreation. The NFDMP and the supporting environmental assessment (EA) approved in 2004 fulfill the obligation of the GJFO to complete a site-specific recreation plan for this area. They establish management objectives and identify management strategies to achieve those objectives. The final rules published today are consistent with direction for recreation actions in the BLM's National Mountain Bicycling Strategic Action Plan (2002) and the BLM's National Management Strategy for Motorized Off-Highway Vehicle Use on Public Lands (2001). The BLM has added definitions in the final rule to clarify the meaning of camping, day-use areas, designated trails, firearms, vehicles, mechanized vehicles, off-road vehicles, and Special Recreation Management Areas. The BLM revised proposed rule number six to clarify allowable uses on roads and trails. That proposed rule was broken into four separate rules for clarification. The BLM revised proposed rule eight to clarify access to day-use areas for hunting. Possession of an off-road vehicle was inadvertently left out of proposed rule number four and was added in the final rule for consistency with rule numbers five and six. The BLM also clarified penalties under the Taylor Grazing Act of 1934. Otherwise, with the exception of minor non-substantive grammatical and formatting changes, the final rules remain as proposed.

III. Discussion of Public Comments

The BLM GJFO proposed these supplementary rules in the Federal Register (74 FR 39100) on August 5, 2009. Public comments were accepted for a period of 60 days, ending on October 5, 2009. The BLM received one comment from the Colorado Division of Wildlife (CDOW). The CDOW asked the BLM to consider revising proposed supplementary rule number eight, which addresses areas designated as “day-use only.” The CDOW noted that CDOW Rule 202(A) provides “Big game may be taken from one-half (½) hour before sunrise to one-half (½) hour after sunset.”

The BLM agrees with this comment and has made changes in final rule number nine.

IV. Procedural Matters

Executive Order 12866, Regulatory Planning and Review

These supplementary rules are not significant regulatory actions and are not subject to review by the Office of Management and Budget under Executive Order 12866. These supplementary rules will not have an annual effect of $100 million or more on the economy. They will not adversely affect in a material way the economy, productivity, competition, jobs, the environment, public health or safety, or state, local, or tribal governments or communities. These supplementary rules will not create a serious inconsistency or otherwise interfere with an action taken or planned by another agency. The supplementary rules do not materially alter the budgetary effects of entitlements, grants, user fees, or loan programs or the rights or obligations of their recipients; nor do they raise any novel legal or policy issues. These supplementary rules merely establish rules of conduct for public use of a limited area of public lands.

Clarity of the Regulations

Executive Order 12866 requires each agency to write regulations that are simple and easy to understand. The BLM invites public comments on how to make these supplementary rules easier to understand, including answers to questions such as the following:

1. Are the requirements in the supplementary rules clearly stated?

2. Do the supplementary rules contain technical language or jargon that interferes with their clarity?

3. Does the format of the supplementary rules (grouping and order of sections, use of headings, paragraphing, etc.) aid or reduce clarity?

4. Is the description of the supplementary rules in the SUPPLEMENTARY INFORMATION section of this preamble helpful in understanding the supplementary rules? How could this description be more helpful in making the supplementary rules easier to understand?

Please send any comments you have on the clarity of the rules to the address specified in the ADDRESSES section.

National Environmental Policy Act (NEPA)

The NFDMP amends the GJRA RMP and supports BLM policies. In 2002, an EA (CO-130-02-008-EA) was initiated to provide the environmental analysis necessary to implement these final supplementary rules, and the Decision Record (DR) was signed in 2004. These supplementary rules would give the BLM the tools to enforce the measures approved in the 2004 DR by allowing the BLM to enforce decisions developed to protect public health and safety and improve the protection of recreational and public land resources. These rules do not change any of the NEPA analysis or decisions in the 2004 DR. These rules are established for the purpose of enforcing the actions and protecting the resources identified in CO-130-02-008-EA.

The BLM reviewed CO-130-02-008-EA and found that the supplementary rules do not constitute a major Federal action significantly affecting the quality of the human environment under Section 102(2)(C) of NEPA, 42 U.S.C. 4332(2)(C). The DR and Finding of No Significant Impact (FONSI) were signed on November 8, 2004 (CO-130-02-008-EA, p. 74). The BLM placed the EA, DR and FONSI on file in the BLM Administrative Record, and invites the public to review these documents at the address specified in the ADDRESSES section.

Regulatory Flexibility Act

Congress enacted the Regulatory Flexibility Act (RFA) of 1980, as amended (5 U.S.C. 601-612), to ensure that government regulations do not unnecessarily or disproportionately burden small entities. The RFA requires a regulatory flexibility analysis if a rule would have a significant economic impact, either detrimental or beneficial, on a substantial number of small entities. These supplementary rules merely establish rules of conduct for public use of a limited area of public lands. Therefore, the BLM has determined under the RFA that these supplementary rules would not have a significant economic impact on a substantial number of small entities.

Small Business Regulatory Enforcement Fairness Act

These supplementary rules are not considered a “major rule” as defined under 5 U.S.C. 804(2). The supplementary rules merely establish rules of conduct for public use of a limited area of public lands.

Unfunded Mandates Reform Act

These supplementary rules do not impose an unfunded mandate on state, local, or tribal governments in the aggregate, or the private sector, of more than $100 million per year; nor do they have a significant or unique effect on small governments. The rules have no effect on governmental or tribal entities and would impose no requirements on any of these entities. The supplementary rules merely establish rules of conduct for public use of a limited area of public lands. Therefore, the BLM is not required to prepare a statement containing the information required by the Unfunded Mandates Reform Act (2 U.S.C. 1531 et seq.).

Executive Order 12630, Governmental Actions and Interference With Constitutionally Protected Property Rights (Takings)

These supplementary rules do not have significant takings implications, nor are they capable of interfering with Constitutionally-protected property rights. The supplementary rules merely establish rules of conduct for public use of a limited area of public lands. Therefore, the BLM has determined that these rules will not cause a “taking” of private property or require preparation of a Takings Assessment under this Executive Order.

Executive Order 13132, Federalism

These supplementary rules will not have a substantial direct effect on the states, the relationship between the national government and the states, or the distribution of power and responsibilities among the various levels of government. These supplementary rules do not come into conflict with any state law or regulation. Therefore, in accordance with Executive Order 13132, the BLM has determined that these supplementary rules do not have sufficient Federalism implications to warrant preparation of a Federalism Assessment.

Executive Order 12988, Civil Justice Reform

Under Executive Order 12988, the BLM has determined that these rules will not unduly burden the judicial system and that they meet the requirements of Sections 3(a) and 3(b)(2) of Executive Order 12988.

Executive Order 13175, Consultation and Coordination With Indian Tribal Governments

In accordance with Executive Order 13175, the BLM has found that these supplementary rules do not include policies that have tribal implications. The supplementary rules merely establish rules of conduct for public use of a limited area of public land and do not affect land held for the benefit of Indians or Alaska Natives or impede their rights.

Paperwork Reduction Act

These final supplementary rules do not directly provide for any information collection that the Office of Management and Budget must approve under the Paperwork Reduction Act, 44 U.S.C. 3501 et seq. Any information collection that may result from Federal criminal investigations or prosecutions conducted under these final supplementary rules is exempt from the provisions of the Paperwork Reduction Act of 1995, as provided at 44 U.S.C. 3518(c)(1).

Executive Order 13211, Actions Concerning Regulations That Significantly Affect Energy Supply, Distribution, or Use

Under Executive Order 13211, the BLM has determined that these supplementary rules are not a significant energy action, and would not have an adverse effect on energy supplies, production, or consumption.

V. Final Supplementary Rules

Author

The principal author of these supplementary rules is Eric Boik, Field Staff Ranger, Bureau of Land Management, Grand Junction Field Office, 2815 H Road, Grand Junction, Colorado 81506.

For the reasons stated in the preamble, and under the authorities for supplementary rules found at 43 U.S.C. 1740, 43 U.S.C. 315a, and 43 C.F.R. 8365.1-6, the Colorado State Director, issues final supplementary rules for public lands within the NFDMA, Colorado, to read as follows:

Supplementary Rules for North Fruita Desert Management Area

Definitions

Camping means the erecting of a tent or shelter of natural or synthetic material, preparing a sleeping bag or other bedding material for use, parking a motor vehicle, motor home, or trailer, or mooring of a vessel for the apparent purpose of overnight occupancy.

Day-Use Area means any area open for public access during daylight hours, between sunrise and sunset, or where specific hours of operation have been identified. Overnight use in these areas is specifically prohibited.

Designated Trail means a trail developed, maintained, and explicitly identified for public use by the BLM. All designated trails will be identified by a combination of trailhead maps and on-site signage listing allowable uses.

Firearm or Other Projectile Shooting Device means all firearms, air rifles, pellet and BB guns, spring guns, bows and arrows, slings, paint ball markers, other instruments that can propel a projectile (such as a bullet, dart, or pellet) by combustion, air pressure, gas pressure, or other means, or any instrument that can fire blank cartridges.

Mechanized Vehicle means mechanical transport by way of any vehicle, device, or contrivance for moving people or material in or over land, water, snow, or air that has moving parts. This includes but is not limited to sailboats, sailboards, hang gliders, parachutes, bicycles, game carriers, carts, or wagons. The term does not include wheelchairs, nor does it include horses or other pack stock, skis, snowshoes, non-motorized river craft including, but not limited to, drift boats, rafts, and canoes, or sleds, travois, or similar devices without moving parts. (See 43 CFR 6301.5).

Off-road Vehicle means any motorized vehicle capable of, or designed for, travel on or immediately over land, water, or other natural terrain excluding:

(1) Any non-amphibious registered motorboat;

(2) Any military, fire, emergency, or law enforcement vehicle while being used for emergency purposes;

(3) Any vehicle whose use is expressly authorized by the authorized officer, or otherwise officially approved;

(4) Vehicle in official use; and

(5) Any combat or combat support vehicle when used in times of national defense emergencies. (See 43 CFR 8340.0-5).

Special Recreation Management Area means an administrative unit where the existing or proposed recreation opportunities and recreation setting characteristics are recognized for their unique value, importance, and/or distinctiveness, especially as compared to other areas used for recreation.

Vehicle means every device in, upon, or by which a person or property is or may be transported from one place to another.

Prohibited Acts

Unless otherwise authorized, the following acts are prohibited on public lands within the North Fruita Desert Management Area:

1. You must not start or maintain a fire outside of a metal fire ring at sites or areas where fire rings are provided by the BLM. Mechanical stoves or other appliances fueled by gas and equipped with a valve that allows the operator to control the flame are exempt from this rule.

2. You must not start or maintain a fire in sites or areas not designated as open for such use by a BLM sign or map. Mechanical stoves or other appliances fueled by gas and equipped with a valve that allows the operator to control the flame are exempt from this rule.

3. You must not cut, collect, or use live, dead, or down wood except in areas designated as open to such use by a BLM sign or map.

4. You must not operate or be in possession of an off-road vehicle or mechanized vehicle on any road which is not designated as open to such use by a BLM sign or map.

5. You must not operate or be in possession of an off-road vehicle or mechanized vehicle on any trail which is not designated as open to such use by a BLM sign or map.

6. You must not ride or be in possession of horses or other pack animals on any trail which is not designated as open to such use by a BLM sign or map.

7. Where pedestrian travel is restricted to a designated trail or route, you must not travel cross-country off the designated trail or route.

8. You must not discharge a firearm or other projectile shooting device of any kind, including those used for target shooting or paintball, where a BLM sign or map indicates a no-shooting area. Licensed hunters in pursuit of game during a legal hunting season with appropriate firearms, as defined by the Colorado Division of Wildlife, are exempt from this rule.

9. You must not enter or remain in a designated day-use area after sunset or before sunrise. Licensed hunters in pursuit of game during the proper season, as defined by the Colorado Division of Wildlife, are exempt from this rule.

10. You must not enter an area that is designated as closed by a BLM sign or map.

11. You must not camp in sites or areas not designated as open to camping by a BLM sign or map.

12. You must not burn wood or other material containing nails, glass, or any metal.

13. You must not park a vehicle in areas not designated for parking by a BLM sign or map.

14. You must not bring any dog into the NFDMA that is not controlled by visual, audible, or physical means.

15. You must remove and properly dispose of solid dog waste as indicated by a BLM sign or map.

16. You must properly dispose of solid human waste as indicated by a BLM sign or map.

17. You must not operate or be in possession of an off-road vehicle that produces sound exceeding 96 decibels.

Exemptions

The following persons are exempt from these supplementary rules: Any Federal, state, local, and/or military persons acting within the scope of their official duties; members of any organized rescue or fire-fighting force in performance of an official duty; and persons, agencies, municipalities, or companies holding an existing special-use permit inside the NFDMA and operating within the scope of their permit.

Penalties

Under the Taylor Grazing Act of 1934, 43 U.S.C. 315a, any willful violation of these supplementary rules on public lands within a grazing district shall be punishable by a fine of not more than $500.

Under section 303(a) of the Federal Land Policy and Management Act of 1976, 43 U.S.C. 1733(a) and 43 CFR 8360.0-7, any person who knowingly and willfully violates any of these supplementary rules on public lands within the NFDMA may be tried before a United States Magistrate and fined no more than $1,000, imprisoned for no more than 12 months, or both. Such violations may also be subject to the enhanced fines provided for by 18 U.S.C. 3571.

Helen M. Hankins,
State Director.

[FR Doc. 2011-26190 Filed 10-7-11; 8:45 am]

BILLING CODE 4310-JB-P